ENVIRONMENTAL PROTECTION AGENCY

40 CFR Part 300

[EPA-HQ-OLEM-2024-0294; FRL-12112-03-OLEM]

Deletion From the National Priorities List; Correction

AGENCY: Environmental Protection Agency (EPA).

ACTION: Correcting amendment.

SUMMARY: The Environmental Protection Agency is correcting a final rule that was published in the Federal Register on March 5, 2025, regarding the deletion of one site and partial deletion of three sites from the Superfund National Priorities List (NPL). This action is necessary to correct an error in the name of one site.

DATES: Effective on February 12, 2026. Applicable on March 5, 2025.

ADDRESSES: The EPA docket for this action is under Docket ID No. EPA-HQ-OLEM-2024-0294. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available electronically through https://www.regulations.gov.

FOR FURTHER INFORMATION CONTACT:

• Grace Stern and Robert Keating, U.S. EPA Region 2 (NJ, NY, PR, VI), email address: stern.grace@epa.gov, telephone number: (212) 637-4341; email address: keating.robert@epa.gov, telephone number: (212) 637-4325.

• Ashley Miller, Matt Spencer, and Jennifer Edwards, U.S. EPA Headquarters, email address: miller.ashley@epa.gov, telephone number: (202) 566-1084; email address: spencer.matthew@epa.gov, telephone number: (202) 566-1851; email address: edwards.jennifer@epa.gov, telephone number: (202) 566-1051.

SUPPLEMENTARY INFORMATION: On March 5, 2025, the Environmental Protection Agency published a final rule in the Federal Register to delete one site and partially delete three sites from the Superfund National Priorities List (NPL) (90 FR 11218). In that final rule, EPA inadvertently revised the name of one site. Lawrence Aviation Industries, Inc. in Port Jefferson Station, NY, was incorrectly listed as Lawrence Aviation, Inc. This resulted in an error in table 1 in appendix B to 40 CFR part 300 (National Priorities List). This document corrects the final regulation to provide the correct name of Lawrence Aviation Industries, Inc. in table 1 in appendix B to 40 CFR part 300 (National Priorities List).

List of Subjects in 40 CFR Part 300

Environmental protection, Air pollution control, Chemicals, Hazardous substances, Hazardous waste, Intergovernmental relations, Natural resources, Oil pollution, Penalties, Reporting and recordkeeping requirements, Superfund, Water pollution control, Water supply.

Mark Barolo,
Office Director, Office of Superfund and Emergency Management.

Accordingly, 40 CFR part 300 is corrected by making the following correcting amendment:

PART 300—NATIONAL OIL AND HAZARDOUS SUBSTANCES POLLUTION CONTINGENCY PLAN

1. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. In appendix B to part 300 amend table 1 by revising the entry “NY”, “Lawrence Aviation, Inc”, “Port Jefferson Station” to read as follows:

Appendix B to Part 300—National Priorities List

Table 1—General Superfund Section
State | Site name | City/county | Notes ᵃ
* * * * * * *
NY | Lawrence Aviation Industries, Inc | Port Jefferson Station | P
* * * * * * *
* * * * * * *
P = Sites with partial deletion(s).

* * * * *

[FR Doc. 2026-02809 Filed 2-11-26; 8:45 am]

BILLING CODE 6560-50-P